DEPARTMENT OF TRANSPORTATION

National Highway Traffic Safety Administration

[Docket No. NHTSA-2016-0139; Notice 1]

Autoliv, Inc., Receipt of Petition for Decision of Inconsequential Noncompliance

AGENCY: National Highway Traffic Safety Administration (NHTSA), Department of Transportation (DOT).

ACTION: Receipt of petition.

SUMMARY: Autoliv, Inc. (Autoliv), on behalf of Autoliv B.V. & CO. KG, has determined that certain Autoliv seat belt assemblies do not fully comply with Federal Motor Vehicle Safety Standard (FMVSS) No. 209, Seat Belt Assemblies. Autoliv filed a noncompliance report dated December 1, 2016. Autoliv also petitioned NHTSA on December 23, 2016, for a decision that the subject noncompliance is inconsequential as it relates to motor vehicle safety.

DATES: The closing date for comments on the petition is June 12, 2017.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: Autoliv, Inc. (Autoliv), has determined that certain Autoliv seat belt assemblies do not fully comply with paragraph S4.3(j)(2)(i) of Federal Motor Vehicle Safety Standard (FMVSS) No. 209, Seat Belt Assemblies. Autoliv filed a noncompliance report dated December 1, 2016, pursuant to 49 CFR part 573, Defect and Noncompliance Responsibility and Reports. Autoliv also petitioned NHTSA on December 23, 2016, pursuant to 49 U.S.C. 30118(d) and 30120(h) and 49 CFR part 556, for an exemption from the notification and remedy requirements of 49 U.S.C. Chapter 301 on the basis that this noncompliance is inconsequential as it relates to motor vehicle safety.

This notice of receipt of Autoliv's petition is published under 49 U.S.C. 30118 and 30120 and does not represent any agency decision or other exercise of judgment concerning the merits of the petition.

II. Seat Belt Assemblies Involved: Approximately 31,682 Autoliv R230.2 and R200.2 front seat LH10° seat belt assemblies manufactured between May 6, 2016, and October 18, 2016, are potentially involved. Autoliv sold the subject seat belt assemblies to BMW of North America, LLC and Jaguar Land Rover North America, LLC for installation in their vehicles (“affected vehicles”).

III. Noncompliance: Autoliv explains that the noncompliance is that the Emergency Locking Retractor (ELR) in the subject safety belt assemblies are equipped with a vehicle-sensitive locking mechanism which does not lock as designed when subjected to the requirements of paragraph S4.3(j)(2)(ii) of FMVSS No. 209.

IV. Rule Text: Paragraph S4.3 of FMVSS No. 209 states in pertinent part:

S4.3 Requirements for hardware . . .

(j) Emergency-locking retractor . . .

(2) For seat belt assemblies manufactured on or after February 22, 2007 and for manufacturers opting for early compliance. An emergency-locking retractor of a Type 1 or Type 2 seat belt assembly, when tested in accordance with the procedures specified in paragraph S5.2(j)(2) . . .

(ii) Shall lock before the webbing payout exceeds the maximum limit of 25 mm when the retractor is subjected to an acceleration of 0.7 g under the applicable test conditions of S5.2(j)(2)(iii)(A) or (B). The retractor is determined to be locked when the webbing belt load tension is at least 35 N.

V. Summary of Autoliv's Petition: Autoliv described the subject noncompliance and stated its belief that the noncompliance is inconsequential as it relates to motor vehicle safety.

In support of its petition, Autoliv submitted the following reasoning:

(a) ELR is Voluntarily Equipped with a Webbing Sensitive Locking Mechanism: The ELR also contains a voluntary webbing sensitive locking mechanism. The webbing sensitive locking mechanism is designed to lock at approximately 1.4-2.0g with no more than 50mm webbing payout. The webbing-sensitive locking mechanism was designed to meet the requirements of other non-US markets.

(b) Necessary Reliance on Automaker In-Vehicle Assessments to Support Autoliv's Petition: With regard to the effect of the ELR on the retractor locking performance of the seatbelt, as the equipment manufacturer, Autoliv is not in a position to provide testing and data on in-vehicle performance issues. However, Autoliv has consulted on and reviewed the testing performed by both BMW and JLR and even participated in some of the testing. Autoliv believes the tests substantiate the claims set forth in both the BMW petition and JLR petition. Therefore, Autoliv adopts and incorporates by reference, the test results summarized in both the BMW and JLR petitions.

(c) Owner Contacts to Autoliv: Autoliv has not received any contacts from vehicle owners regarding this issue.

(d) Accidents/Injuries: Autoliv is not aware of any accidents or injuries that have occurred as a result of this issue.

(e) Prior NHTSA Rulings re Manufacturer Petitions: NHTSA previously granted a petition from General Motors (GM) on a very similar issue. [69 FR 19897, Docket No. NHTSA-2002-12366, Apr 14, 2004]. GM provided test results and analyses indicating that while there existed a non-functional vehicle sensitive locking mechanism within the safety belt assembly ELR, the webbing sensitive locking mechanism provided comparable restraint performance to that of a fully functional vehicle sensitive locking mechanism.

(f) Autoliv Production: Autoliv production has been corrected to fully conform to FMVSS No. 209 Sections 4.3(j)(2)(i) and (ii).

Autoliv concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject seat belt assemblies that Autoliv no longer controlled at the time it determined that the noncompliance existed. However, any decision on this petition does not relieve vehicle distributors, equipment distributors and dealers of the prohibitions on the sale, offer for sale, or introduction or delivery for introduction into interstate commerce of the noncompliant safety belt assemblies under their control after Autoliv notified them that the subject noncompliance existed.

Authority: 49 U.S.C. 30118, 30120: delegations of authority at 49 CFR 1.95 and 501.8.

Jeffrey M. Giuseppe,
Director, Office of Vehicle Safety Compliance.

[FR Doc. 2017-09498 Filed 5-10-17; 8:45 am]

BILLING CODE 4910-59-P